ENVIRONMENTAL PROTECTION AGENCY

[FRL OP-OFA-112]

Environmental Impact Statements; Notice of Availability

Responsible Agency: Office of Federal Activities, General Information 202-564-5632 or https://www.epa.gov/nepa.

Weekly receipt of Environmental Impact Statements (EIS)

Filed February 12, 2024 10 a.m. EST Through February 16, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240029, Draft, GSA, AK, Alcan Land Port of Entry Expansion and Modernization Draft Environmental Impact Statement Alcan, Alaska, Comment Period Ends: 04/11/2024, Contact: Aaron Evanson 206-445-5876.

EIS No. 20240030, Final, NRCS, PRO, ADOPTION—PROGRAMMATIC—Habitat Restoration Activities Implemented throughout the Coastal United States, Review Period Ends: 03/25/2024, Contact: Angela Trahan 337-291-3142.

The Natural Resource Conservation Service (NRCS) has adopted the National Oceanic and Atmospheric Administration's Final EIS No. 20150171 filed 06/11/2015 with the Environmental Protection Agency. The NRCS was not a cooperating agency on this project. Therefore, republication of the document is necessary under Section 1506.3(b)(1) of the CEQ regulations.

EIS No. 20240031, Final, TVA, TN, Kingston Fossil Plant Retirement, Review Period Ends: 03/25/2024, Contact: Chevales Williams 423-751-7316.

Dated: February 20, 2024.
Julie Smith,
Acting Director, NEPA Compliance Division, Office of Federal Activities.

[FR Doc. 2024-03690 Filed 2-22-24; 8:45 am]

BILLING CODE 6560-50-P